DEPARTMENT OF COMMERCE

National Oceanic and Atmospheric Administration

[I.D. 010606B]

Antarctic Marine Living Resources Convention Act of 1984; Conservation and Management Measures

AGENCY: National Marine Fisheries Service (NMFS), National Oceanic and Atmospheric Administration (NOAA), Commerce.

ACTION: Notice.

SUMMARY: NMFS issues this notice to notify the public that the United States has accepted conservation and management measures pertaining to fishing in Antarctic waters managed by the Commission for the Conservation of Antarctic Marine Living Resources (Commission or CCAMLR). The Commission adopted these measures at its twenty-forth meeting in Hobart, Tasmania, October 24 to November 4, 2005. The measures have been agreed upon by the Member countries of CCAMLR, including the United States, in accordance with Article IX of the Convention for the Conservation of Antarctic Marine Living Resources (the Convention). The conservation and management measures accepted: restrict overall catches, research catch and bycatch of certain species of fish, krill and crab; limit participation in several exploratory fisheries; restrict fishing in certain areas and to certain gear types; set fishing seasons; clarify seabird mitigation measures; clarify Member data reporting timelines and vessel monitoring reporting; adopt definitions for use in operating the Catch Documentation Scheme (CDS). The Commission adopted a list of vessels suspected to be engaged in illegal, unregulated or unreported fishing (IUU vessel list) in the Convention Area. The Commission also adopted a resolution urging Member participation in a non-Contracting Party Cooperation Enhancement Program.

ADDRESSES: Copies of the CCAMLR conservation and management measures may be obtained from the Assistant Administrator for Fisheries, NOAA, National Marine Fisheries Service, 1315 East-West Highway, Silver Spring, MD 20910.

FOR FURTHER INFORMATION CONTACT: Robin Tuttle, 301-713-2282.

SUPPLEMENTARY INFORMATION:

Background

The full text of the conservation and management measures agreed to by consensus by CCAMLR at its 2005 meeting and published by the U.S. Department of State in a formal notice in the Federal Register on January 26, 2006 (71 FR 4406).

Public comments were invited on the notice, but no public comments were received. Through this action, NMFS notifies the public that the United States has accepted the measures adopted at CCAMLR's twenty-fourth meeting. NMFS provides the following summary of these conservation and management measures as a courtesy.

Prohibitions on Directed Fishing

The Commission renewed the prohibition on directed fishing for Dissostichus species except in accordance with specific conservation measures. Accordingly, directed fishing for Dissostichus species in Subarea 48.5 was prohibited in the 2005/2006 season.

Bycatch

The Commission agreed to apply the existing bycatch limits in Division 58.5.2 in the 2005/2006 season. The Commission also agreed to apply the existing bycatch limits for exploratory fisheries in the 2005/2006 season, taking account of the revised catch limit for Dissostichus species in Subareas 88.1 and 88.2 and the consequential change to the bycatch limits in those subareas.

The Commission agreed to include sleeper shark (Somniosus species) on the list of selected species for which its existing move-on rule apples when 2 tons or more are caught in any one haul. In addition, the Commission agreed to a new move-on rule in exploratory fisheries designed to encourage Members and their vessels to further improve the selectivity of fishing gear and fishing methods. The new move-on rule requires vessels to monitor the bycatch of Macrourus species relative to that of Dissostichus species at ten-day intervals.

Environmental Protection

The Commission agreed to extend the environmental protection provisions implemented in the fisheries in Subareas 88.1 and 88.2 to fisheries in Subarea 48.6, south of 60° S, Division 58.4.2 and Division 58.4.1, south of 60° S. The provisions regulate the disposal of plastic packaging bands, the dumping or discharge of oil, garbage, food wastes, poultry, sewage, offal or incineration ash, and the translocation of poultry.

Seabird Mitigation Measures

The Commission amended the conservation measure requiring longline sink rate testing prior to entering the Convention Area for vessels choosing to fish longlines during daylight hours. As amended, the conservation measure now requires a vessel to test a minimum, rather than a maximum, length of longline. The Commission also amended the measure to allow Commission-endorsed experimental trials to test the bottom-line system.

The Commission revised its conservation measure on the minimization of the mortality of seabirds in the course of longline fishing so as to allow fishers to test variations on the design of mitigation measures for longlines.

Exploratory Fishing

The Commission revised the notification procedure for exploratory fisheries to clarify that information on the license issued to a vessel requesting participation in an exploratory fishery must be included at the time the notification is submitted by the Flag State to the Secretariat.

Icefish

The Commission adopted area specific conservation measures for Champsocephalus gunnari for the 2005/2006 season.

The Commission set the overall catch limit for the C. gunnari trawl fishery in Subarea 48.3 for the 2005/2006 season at 2,244 tons, limited the catch of this total to 561 tons during the spawning period (March 1, 2005 through May 31, 2006) and continued previously adopted restrictions on the fishery. Any catch taken between October 1, 2005 and November 14, 2005 will be counted against the total catch limit for the 2005/2006 season.

The Commission set the catch limit for C. gunnari trawl fishery within defined areas of Division 58.5.2 for the 2005/2006 season at 1,210 tons and continued previously adopted restrictions on and reporting requirements for the fishery.

Crab

The Commission set the total allowable catch level for the pot fishery for crab for the 2005/2006 fishing season at 1,600 tons and continued to limit participation to one vessel per member country conducted as an experimental harvest regime.

Squid

The Commission set the total allowable catch limit for the exploratory jig fishery for Martialia hyadesi for the 2005/2006 fishing season at 2,500 tons.

Krill

The Commission carried forward the precautionary catch limits for krill in Statistical Area 48 at 4.0 million tons overall and, as divided by subareas, at 1.008 million tons in Subarea 48.1, 1.104 million tons in Subarea 48.2, 1.056 million tons in Subarea 48.3, and 0.832 million tons in Subarea 48.4.

Dissostichus Species

The Commission removed the requirement to carry out specific research sets in the exploratory fisheries in Subareas 88.1 and 88.2. In its place, the Commission agreed that there be a requirement that all fish of each Dissostichus species in a haul (up to a maximum of 35 fish) be measured and randomly sampled for biological studies from all lines hauled in Subareas 88.1 and 88.2.

The Commission set a combined catch limit of 3,556 tons for the longline and pot fisheries for D. eleginoides in the Shag Rocks and South Georgia areas of Subarea 48.3 in the 2005/2006 season. The Commission closed the West Shag Rocks area and set bycatch limits on other species.

The Commission established a mark-recapture program for the 2005/06, 2006/07 and 2007/08 seasons to assess the population of toothfish in Subarea 48.4 and revised the limit on the catch of Dissostichus eleginoides to 100 tons per season, revised the fishing season to April 1 through September 30, and required each vessel operating in the fishery to undertake a tagging program in accordance with a CCAMLR Tagging Protocol.

The Commission set a combined catch limit of 2,584 tons of D. eleginoides in Division 58.5.2 west of 79°20′ E from December 1, 2005, to November 30, 2006, for trawl and pot fishing and from May 1, 2006, to August 31, 2006, for longline fishing. The Commission extended the season to September 30 for vessels which complete longline sink rate testing using CCAMLR testing protocols.

The Commission designated several Dissostichus fisheries as exploratory fisheries for the 2005/2006 fishing season. These fisheries are total allowable catch fisheries and are open only to the flagged vessels of countries that notified CCAMLR of an interest by named vessels to participate in the fisheries.

The exploratory fisheries for Dissostichus species authorized by the Commission for the 2005/2006 fishing season include the following: (1) Longline fishing in Statistical Division 58.4.1 by Australia (one vessel), Chile (two vessels), Republic of Korea (two vessels), New Zealand (three vessels), Spain (two vessels) and Ukraine (one vessel); (2) longline fishing in Statistical Subarea 48.6 by one vessel per country at any one time by Japan and New Zealand; (3) longline fishing in Statistical Division 58.4.2 by Australia (one vessel), Chile (two vessels), Republic of Korea (one vessel), New Zealand (two vessels), and Spain (two vessels); (4) longline fishing in Statistical Division 58.4.3a (the Elan Bank) outside areas under national jurisdiction to no more than one vessel per country at a time by Australia, Chile, Republic of Korea and Spain; (5) longline fishing in Statistical Division 58.4.3b (the BANZARE Bank) outside areas of national jurisdiction to no more than one vessel per country at a time by Australia, Chile, Republic of Korea, Spain and Uruguay; (6) longline fishing in Statistical Subarea 88.1 by Argentina (two vessels), Republic of Korea (two vessels), New Zealand (five vessels), Norway (one vessel), Russia (two vessels), South Africa (one vessel), Spain (three vessels), United Kingdom (two vessels), and Uruguay (three vessels); and (7) longline fishing in Statistical Subarea 88.2 by Argentina (two vessels), Republic of Korea (one vessel), New Zealand (five vessels), Norway (one vessel), Russia (two vessels), Spain (three vessels), United Kingdom (two vessels), and Uruguay (one vessel).

Research Catch

The Commission agreed that catches for research purposes will be considered a part of any catch limits in force for each species taken unless the catch limit in an area is set at zero. In the event of research being undertaken in an area with a zero catch limit, the catches will be considered to be the catch limit for the season in that area unless the zero catch limit area is part of a group of areas for which an overall catch limit is set. In this latter case, the research catches will be considered as part of the overall catch limit for that group of areas.

Member Data Reporting

The Commission revised the five-day catch and effort reporting system to clarify that reports from Members are due to the CCAMLR Secretariat within 48 hours of the close of each five-day reporting period and must include data on the number of pots used in pot fisheries.

The Commission agreed that haul-by-haul data should be submitted annually by Members for all krill fisheries. The Commission also agreed that monthly catch reports should be compiled at the spatial scale relevant to the management of catch limits specified in the conservation measures setting krill catch limits.

The Commission revised the conservation measures on port inspections of vessels carrying Dissostichus species to require that Members submit reports of port inspections on each occasion that a vessel unloads Dissostichus species in their territories.

The Commission revised the conservation measure on automated satellite-linked vessel monitoring systems to reinstate a requirement that Flag States notify the CCAMLR Secretariat as soon as possible of the movement between subareas and divisions of the Convention Area by each of its fishing vessels. The Commission encouraged Flag States to submit all VMS reports to the Secretariat by means of direct reporting by vessels to the CCAMLR Secretariat via VMS land stations.

Illegal, Unregulated and Unreported Vessel List

The Commission consolidated the lists of vessels suspected of illegal, unregulated or unreported (IUU) fishing or trading (the IUU vessel list) into a combined List of Contracting Party Vessels and non-Contracting Party Vessels. The vessels on the consolidated list are: VIARSA I (Uruguay), MAYA V (Uruguay), AMORINN (Togo), APACHE I (Honduras), CONDOR (Togo), EOLO (Equatorial Guinea), GOLDEN SUN (Equatorial Guinea), HAMMER (Togo), JIAN YUAN(Georgia), KANG YUAN (Georgia), KETA (flag unknown), SOUTH OCEAN (China), RED LION 22 (Equatorial Guinea), SARGO (Togo), SEA STORM (Equatorial Guinea), SOUTH BOY (Equatorial Guinea), ROSS (Togo) and TARUMAN (Cambodia). A vessel on the IUU Vessel List will not be permitted to participate in exploratory fisheries. CCAMLR members are urged to prohibit trade with the vessels on the CCAMLR IUU Vessel List.

Vessel Monitoring

The Commission reinstated a section in the 2002 version of the conservation measure for an Automated Satellite-linked Vessel Monitoring System requiring notification of each movement of a vessel between subareas and division. The Commission encouraged Flag States to submit all VMS reports to the CCAMLR Secretariat by means of direct reporting by vessels to the Secretariat via VMS land stations.

Catch Documentation Scheme

The Commission adopted clarifying definitions of export, import, landing, port state and transshipment for purposes of administering the CDS. “Export” is defined as any movement of a catch in its harvested or processed form from the territory under the control of the State or free trade zone of landing, or, where that State or free trade zone forms part of a customs union, any other member State of that customs union. “Import” is defined as the physical entering or bringing of a catch into any part of the geographical territory under the control of a State, except where the catch is landed or transshipped within the definitions of “landing” or “transshipment.” “Landing” is defined as the initial transfer of catch in its harvested or processed form from a vessel to dockside or to another vessel in a port or free trade zone where the catch is certified by an authority of the Port State as landed. “Port State” is defined as the State that has control over a particular port area or free trade zone for the purposes of landing, transshipment, importing, exporting and re-exporting and whose authority serves as the authority for landing or transshipment certification. “Re-export” is defined as any movement of a catch in its harvested or processed form from territory under the control of a State, free trade zone, or Member State of a customs union of import unless that State, free trade zone, or any member State of that customs union of import is the first place of import, in which case the movement is an export within the definition of export. “Transshipment” is defined as the transfer of a catch in its harvested or processed form from a vessel to another vessel or means of transport, and where such transfer takes place within the territory under the control of a Port State, for the purpose of effecting its removal from that State. For the avoidance of doubt, temporarily placing a catch on land or on an artificial structure to facilitate such transfer shall not prevent the transfer from being a transshipment where the catch is not within the definition of landing.

The Commission added a provision to the text of the CDS conservation measure and to the data fields of the Dissostichus Catch Document (DCD) and the Re-Export form requiring the reporting of transport details of toothfish shipments.

Non-Contracting Party Cooperation Enhancement Program

The Commission adopted a resolution on a non-Contracting Party Cooperation Enhancement Program. The resolutions urges Members to provide information, training materials and technical assistance to non-Contracting Flag and Port States with an interest in controlling toothfish harvesting and trade, but which lack the expertise and resources to do so.

Authority: 16 U.S.C. 2431 et seq.

Dated: March 9, 2006.
William T. Hogarth,
Assistant Administrator for Fisheries, National Marine Fisheries Service.

[FR Doc. E6-3750 Filed 3-14-06; 8:45 am]

BILLING CODE 3510-22-S